ENVIRONMENTAL PROTECTION AGENCY

40 CFR Part 158 and 161

[EPA-HQ-OPP-2008-0110; FRL-8358-2]

RIN 2070-2070-AD30

Data Requirements for Antimicrobial Pesticides; Extension of Comment Period

AGENCY: Environmental Protection Agency (EPA).

ACTION: Proposed rule; extension of comment period.

SUMMARY: EPA issued a proposed rule in the Federal Register of October 8, 2008 proposing data requirements for antimicrobial pesticides. EPA received two requests to extend the comment period on the proposed rule. Today's document extends the comment period for 90 days, from January 6, 2009 to April 6, 2009.

DATES: Comments, identified by docket identification (ID) number EPA-HQ-OPP-2008-0110 must be received on or before April 6, 2009.

ADDRESSES: Follow the detailed instructions as provided under ADDRESSES in the Federal Register document of October 8, 2008.

FOR FURTHER INFORMATION CONTACT: Kathryn Boyle, Field and External Affairs Division (7506P), Office of Pesticide Programs, Environmental Protection Agency, 1200 Pennsylvania Ave., NW., Washington, DC 20460-0001; mailcode 7506P; telephone number: 703.305.6304; fax number: 703.305.5884; e-mail address: boyle.kathryn@epa.gov.

SUPPLEMENTARY INFORMATION: Two requests for an extension of the comment period on the proposed rule were submitted by the American Chemistry Council, Biocides Panel and the Consumer Specialty Products Association. Both of these requests are in docket EPA-HQ-OPP-2008-0110, accessible via http://www.regulations.gov. Today's document extends the public comment period established in the Federal Register of October 8, 2008 (73 FR 59382)(FRL-8358-2) for the proposed rule entitled “Data Requirements for Antimicrobial Pesticides.” EPA is extending the comment period, which was set to end on January 6, 2009, to April 6, 2009.

To submit comments, or access the public docket, please follow the detailed instructions as provided under ADDRESSES in the October 8, 2008 Federal Register document. If you have questions, consult the person listed under FOR FURTHER INFORMATION CONTACT.

List of Subjects in 40 CFR Part 158 and 161

Environmental protection, Administrative practice and procedure, Agricultural commodities, Pesticides and pests, Reporting and recordkeeping requirements.

Dated: December 5, 2008.
James B. Gulliford,
Assistant Administrator for Prevention, Pesticides, and Toxic Substances.

[FR Doc. E8-29477 Filed 12-11-08; 8:45 am]

BILLING CODE 6560-50-S